DEPARTMENT OF THE INTERIOR

Bureau of Land Management

[LLWY920000-L14300000-EU0000; WYW-167526]

Notice of Realty Action: Modified Competitive Sealed Bid Sale of Public Land in Sweetwater County, WY

AGENCY: Bureau of Land Management, Interior.

ACTION: Notice of Realty Action.

SUMMARY: The Bureau of Land Management (BLM) proposes to offer by modified competitive, sealed-bid sale, two parcels totaling 650 acres in Sweetwater County at no less than the fair market value (FMV) of $290,000 for parcel 1 and $210,000 for parcel 2 as determined by the October 29, 2013, appraisal. The sale will be subject to the applicable provisions of Section 203 of the Federal Land Policy and Management Act of 1976 (FLPMA), 43 U.S.C. 1713, and the BLM land sale regulations at 43 CFR 2710.

DATES: Interested parties may submit written comments to the BLM at the address below. The BLM must receive your comments on or before January 2, 2015. The BLM will accept sealed bids for the offered lands until January 20, 2015, 3 p.m. Mountain Time (MT). If the BLM determines to conduct the sale, the sealed bids will be opened on January 20, 2015, at the Rock Springs Field Office at 9 a.m. MT.

ADDRESSES: Send written comments concerning this notice to the Field Manager, BLM, Rock Springs Field Office, 280 Highway 191 North, Rock Springs, WY 82901-3447.

FOR FURTHER INFORMATION CONTACT: Patricia Hamilton, Realty Specialist, at email phamilto@blm.gov or by telephone at 307-352-0334. Public comments concerning this proposed sale may be mailed or emailed to BLM_WY_Sweetwater_County_Land_Sale@blm.gov by January 2, 2015. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The two parcels of public land will be sold individually. The parcels proposed for a modified competitive sale are approximately 6 miles northwest of Green River, Wyoming. The parcels are in mixed land ownership pattern of public and private lands and are adjacent to Interstate 80. The subject public land is described as:

Parcel 1 containing 390.00 acres:

Sixth Principal Meridian

T. 18 N., R. 108 W.,

Sec. 10, W½W½NW¼NE¼, S½NE¼, NW¼, W½SW¼, N½NE¼SW¼ and N½N½SE¼.

Parcel 2 contains 260.00 acres:

Sixth Principal Meridian

T. 18 N., R. 108 W.,

Sec. 12, W½NW¼NE¼, S½NE¼, and NW¼.

The area described aggregate parcels 1 and 2 totaling 650.00 acres.

The parcels offered for the proposed modified competitive, sealed-bid sale are suitable for disposal and this action is in conformance with the Green River Resource Management Plan, Record of Decision approved on August 8, 1997. Conveyance of the identified public land will be subject to all valid existing rights of record.

On April 23, 2013, the BLM published a Notice of Realty Action in the Federal Register (78 FR24219) to segregate the parcels from appropriation under the public land laws, including the mining laws, for a period of 2 years from the date of publication. This notice will be published once a week for 3 weeks in the Rock Springs Rocket Miner and the Green River Star news media.

The use of the modified competitive, sealed-bid sale method is consistent with 43 CFR 2711.3-2. Under that provision, public lands may be offered for sale utilizing modified competitive bidding procedures when the authorized officer determines it is necessary in order to assure equitable distribution of land among purchasers or to recognize equitable considerations or public policies. Under the modified competitive bidding, procedure provided in 43 CFR 2711.3-2(a)(1)(i), a designated bidder is offered the right to meet the highest bid. Here the BLM has determined that the modified competitive procedures are appropriate because the City of Green River, Wyoming, has identified the parcels in question as part of the city's future growth and development. Because the land pattern consists of public and private land and adjacent to the interstate, the BLM has determined that, the designated bidder is the City of Green River. Refusal or failure to meet the highest bid shall constitute a waiver of such bidding provisions.

Factors to consider in determining when modified competitive procedures shall be used include, but are not limited to the needs of State and/or local government, adjoining landowners, historical users, and other needs for the parcel. This notice specifies the procedures for and method of modified competitive bidding, and a statement indicating the purpose or objective of the bidding procedures.

Sale Procedures: Sealed bid envelopes must be clearly marked with “SEALED BID BLM LAND SALE, WYW-167526” on the front lower left-hand corner of the envelope and contain the completed Certificate of Eligibility, stating the name, mailing address, and phone number of the entity/person making the bid. A Certificate of Eligibility is available online at www.blm.gov/wy/st/en/info/NEPA/documents/rsfo/landsale.html or by contacting the Rock Springs Field Office. Sealed bids must be equal to or greater than the appraised FMV of the land. Sealed bids must include a certified check, money order, bank draft, cashier's check, or any combination thereof, made payable to the Department of the Interior (DOI)-BLM for an amount not less than 20 percent of the total amount of the bid. Personal and company checks will not be accepted. Sealed bids will be opened and recorded to determine the high bidder. The highest qualifying bid received will be declared the high bid for the parcel. The modified competitive sale process allows the designated bidder (the City of Green River) the opportunity to meet the high bid.

The designated bidder, or their authorized representative, must be present at the bid opening. Should the designated bidder appoint a representative for this sale, they must submit in writing a notarized lawfully executed document identifying the level of capacity given to the designated representative signed by both parties. The designated bidder or its representative will have the opportunity to meet and accept the high bid as the purchase price. Should the designated bidder or its representative refuse to meet the high bid, the bidder submitting the high bid will be declared the successful bidder in accordance with 43 CFR 2711.3-2(c). Should the designated bidder meet the high bid, a 20 percent deposit immediately following the close of the sale must be submitted in the form of a certified check, postal money order, bank draft, cashier's check or any combination thereof, and made payable to the DOI-BLM. Bidders submitting matching high bid amounts for a parcel will be given an opportunity to submit a supplemental sealed bid.

Bid deposits submitted by unsuccessful bidders will be returned by United States mail or upon presentation of photo identification at the Rock Springs Field Office.

The successful bidder will be allowed 180 days from the date of sale to submit the remainder of the full bid price in the form of a certified check, money order, bank draft, cashier's check, or any combination thereof, made payable to the DOI-BLM. Personal and company checks will not be accepted. Arrangements for electronic fund transfer to the BLM for the payment balance due shall be made a minimum of 2 weeks prior to the payment date. Failure to submit the remainder of the full bid price prior to but not including the 180th day following the day of the sale, will result in the forfeiture of the 20 percent bid deposit to the BLM in accordance with 43 CFR 2711.3-1(d), and the parcel will be offered to the second high bidder at their original bid. No exceptions will be made. If no successful bids are received, then the parcels will remain available for sale on a continuing basis in accordance with competitive sale procedures found at 43 CFR 2711.3-1 without further legal notice. Bids submitted for unsold parcels will be opened on a monthly basis on the first Friday of each month at 10 a.m. MT at the Rock Springs Field Office, for a 6 month period.

The Federal law requires that qualified bidders must be: (a) A United States citizen 18 years of age or older; (b) A corporation subject to the laws of any State or of the United States; (c) A State, State instrumentality, or political subdivision authorized to hold real property; or (d) An entity legally capable of conveying and holding lands, or interests therein, under the laws of the State of Wyoming. Where applicable, the entity shall also meet the requirements of (a) and (b) of this section. United States citizenship is evidenced by presenting a birth certificate, passport or naturalization papers. Failure to submit the appropriate documents to BLM concurrently with the bid shall result in the ineligibility of the bidder.

Within 30 days of the sale, the BLM will provide written acceptance or rejection of all bids received. Pursuant to 43 CFR 2711.3-1, a bid is the bidder's offer to the BLM to purchase the parcel. No contractual or other rights against the United States may accrue until the BLM officially accepts the offer to purchase and the full bid price is submitted by the 180th day following the sale. Any name changes and all supporting documentation must be received at the Rock Springs Field Office within 30 days after the sale; otherwise, the patent will be issued to the name(s) on the bidder statement that is completed and submitted. To change the name on the bidder statement, the successful bidder must notify the Rock Springs Field Office in writing, and submit a new Certificate of Eligibility bidder statement.

The parcel is subject to limitations prescribed by law and regulation, and certain encumbrances in favor of third parties. Prior to patent issuance, the holder of any right-of-way (ROW) within the parcel will be given the opportunity to amend the ROW for conversion to a new term, including perpetuity, if applicable, or conversion to an easement. The BLM will notify valid existing ROW holders of record of their ability to convert their compliant ROWs to perpetual ROWs or easements. In accordance with 43 CFR 2807.15, once notified each valid holder may apply for the conversion of their current authorization.

The patent, if issued, will be subject to all valid existing rights documented at the time of patent issuance, including the following terms, conditions, and reservations:

1. A right-of-way thereon for ditches or canals constructed by the authority of the United States, Act of August 30, 1890 (43 U.S.C. 945);

2. All minerals, together with the right to prospect for, mine, and remove such deposits from the same under applicable law and such regulations as the Secretary of the Interior may prescribe;

3. Right-of-way WYE-020800 for Federal-Aid Highway purposes granted to Wyoming Department of Transportation (WYDOT), its successors or assigns pursuant to the Act of November 9, 1921 (42 STAT 216);

4. Right-of-way WYW-50037 for power transmission line purposes granted to PacifiCorp, its successors or assigns pursuant to the Act of March 4, 1911 (43 U.S.C. 961);

5. Right-of-way WYW-70796 for oil and gas pipeline purposes granted to Questar Overthrust Pipeline Company, its successors or assigns pursuant to the Act of February 25, 1920 (30 U.S.C. 185);

6. Right-of-way WYW-79512 for telephone purposes granted to Qwest Corporation, its successors or assigns pursuant to the Act of October 21, 1976 (43 U.S.C. 1761);

7. Right-of-way WYW-80361 for oil and gas pipeline purposes granted to Questar Pipeline Company, its successors or assigns pursuant to the Act of February 25, 1920 (30 U.S.C. 185);

8. Right-of-way WYW-81162 for power transmission line purposes granted to PacifiCorp, its successors or assigns pursuant to the Act of October 21, 1976 (43 U.S.C. 1761);

9. Right-of-way WYW-87149 for road purposes granted to the County of Sweetwater, its successors or assigns pursuant to the Act of October 21, 1976 (43 U.S.C. 1761);

10. Right-of-way WYW-96259 for telephone purposes granted to US Sprint, its successors or assigns pursuant to the Act of October 21, 1976 (43 U.S.C. 1761);

11. Right-of-way WYW-107528 for oil and gas pipeline purposes granted to Mountain Gas Resources, Inc., its successors or assigns pursuant to the Act of February 25, 1920 (30 U.S.C. 185);

12. Right-of-way WYW-128022 for material site purposes granted to the Federal Highway Administration, its successors or assigns pursuant to the Act of August 27, 1958 (23 U.S.C. 317(A));

13. Right-of-way WYW-145982 for telephone purposes granted to Qwest Corporation, its successors or assigns pursuant to the Act of October 21, 1976 (43 U.S.C. 1761);

14. Right-of-way WYW-147666 for telephone purposes granted to Broadwing Communication Services Inc., its successors or assigns pursuant to the Act of October 21, 1976 (43 U.S.C. 1761);

15. Right-of-way WYW-153742 for telephone purposes granted to AT&T, its successors or assigns pursuant to the Act of October 21, 1976 (43 U.S.C. 1761);

16. Right-of-way WYW-154579 for communication site purposes granted to Union Telephone Company, Inc., its successors or assigns pursuant to the Act of October 21, 1976 (43 U.S.C. 1761);

17. Right-of-way WYW-155228 for Federal-Aid Highway purposes granted to WYDOT, its successors or assigns pursuant to the Act of August 27, 1958 (23 U.S.C. 317(A));

18. Right-of-way WYW-167654 for oil and gas purposes granted to Questar Overthrust Pipeline Company, its successors or assigns pursuant to the Act of February 25, 1920 (30 U.S.C. 185);

19. Right-of-way WYW-167751 for power transmission line purposes granted to PacifiCorp, its successors or assigns pursuant to the Act of October 21, 1976 (43 U.S.C 1761);

20. Right-of-way WYW-083175 for Federal-Aid Highway purposes granted to WYDOT, its successors or assigns pursuant to the Act of November 9, 1921 (42 STAT 216); and

21. Right-of-way WYW-0315246 for Federal-Aid Highway purposes granted to WYDOT, its successors or assigns pursuant to the Act of August 27, 1958 (23 U.S.C. 317(A)).

By accepting this patent, the patentee agrees to indemnify, defend and hold the United States harmless from any costs, damages, claims, causes of action, penalties, fines, liabilities and judgments of any kind or nature arising from the past, present, and future acts or omissions of the patentee, its employees, agents, contractors, lessees or any third-party, arising out of, or in connection with, the patentee's use, occupancy, or operations on the patented real property. This indemnification and hold harmless agreement includes, but is not limited to, acts and omissions of the patentee, its employees, agents, contractors, lessees or third party arising out of or in connection with the use and/or occupancy of the patented real property resulting in: (1) Violations of Federal, State, and local laws and regulations applicable to the real property; (2) Judgments, claims or demands of any kind assessed against the United States; (3) Costs, expenses, damages of any kind incurred by the United States; (4) Other releases or threatened releases on, into or under land, property and other interests of the United States by solid or hazardous waste(s) and/or hazardous substances(s), as defined by Federal or State environmental laws; (5) Other activities by which solid or hazardous substances or wastes, as defined by Federal and State environmental laws were generated, released, stored, used or otherwise disposed of on the patented real property, and any cleanup response, remedial action or other actions related in any manner to said solid or hazardous substances or wastes; or (6) Natural resource damages as defined by Federal and State law. This covenant shall be construed as running with the patented real property and may be enforced by the United States in a court of competent jurisdiction.

The parcels may be subject to land use applications received if processing the application would have no adverse effect on the marketability of title, or the FMV of the parcels. Encumbrances of record, appearing in the case files for the parcels offered for sale, are available for review during business hours, 7:45 a.m. to 4:30 p.m. MT, Monday through Friday, at the Rock Springs Field Office, except during federally recognized holidays.

The BLM will not sign any documents related to 1031 Exchange transactions. The timing for completion of an exchange is the bidder's responsibility. The BLM cannot be a party to any 1031 Exchange.

In order to determine the FMV through appraisal, certain extraordinary assumptions and hypothetical conditions may have been made concerning the attributes and limitations of the land and potential effects of local regulations and policies on potential future land uses. Through publication of this notice, the BLM advises that these assumptions may not be endorsed or approved by units of local government. It is the buyer's responsibility to be aware of all applicable Federal, State and local government laws, regulation and policies. This guidance may affect the subject lands, including any required dedication of lands for public uses. It is the buyer's responsibility to be aware of existing or projected use of nearby properties. When conveyed out of Federal ownership, the lands will be subject to any applicable laws, regulations and policies of the applicable local government for proposed future uses. It will be the responsibility of the purchaser to be aware through due diligence of those laws, regulations and policies, and to seek any required approvals for future uses. Buyers should also make themselves aware of any Federal or State law or regulation that may affect the future use of the property. Any land lacking access from a public road or highway will be conveyed as such and future access acquisition will be the responsibility of the buyer.

Information concerning the sale, appraisals, reservations, sale procedures and conditions, Comprehensive Environmental Response, Compensation and Liability Act, maps and other environmental documents and mineral report is available for review at the Rock Springs Field Office.

Before including your address, phone number, email address, or other personal identifying information in your comment, be advised that your entire comment—including your personal identifying information—may be made publicly available at any time. While you may ask us in your comment to withhold from public review your personal identifying information, we cannot guarantee that we will be able to do so. The BLM will make available for public review, in their entirety, all comments submitted by businesses or organizations, including comments by individuals in their capacity as an official or representative of a business or organization.

Any adverse comments regarding the sale will be reviewed by the Wyoming State Director or other authorized official of the Department of Interior who may sustain, vacate or modify this realty action. In the absence of any adverse comments, this realty action will become the final determination of the Department of the Interior.

Authority: 43 CFR 2711.1-2

Donald A. Simpson,
State Director, Wyoming.

[FR Doc. 2014-27209 Filed 11-17-14; 8:45 am]

BILLING CODE 4310-22-P